NATIONAL TRANSPORTATION SAFETY BOARD

Forum

On Tuesday and Wednesday, June 21 and 22, 2016, the National Transportation Safety Board (NTSB) will convene a forum titled PIREPs: Pay it Forward . . . Because Weather for One, is Weather for None. The forum will begin at 9:00 a.m. each day and is open to all. Attendance is free, and no registration is required. NTSB Board Member Robert L. Sumwalt will serve as the presiding officer of the forum. Invited panelists will include representatives from the Federal Aviation Administration, National Weather Service, airlines, researchers, and industry and advocacy groups.

Below is the preliminary agenda.

Tuesday, June 21, 2016 (9:00 a.m. to 5:00 p.m.)

1. Opening Statement by Member Sumwalt

2. Staff Presentation on PIREP and Weather Dissemination

3. Presentations on Use and Significance of PIREPs to Weather Services, Air Traffic Controllers, Pilots, and Researchers

4. Questions from the Technical Panel and Member Sumwalt

5. Presentations on PIREP Submission, Solicitation, and Dissemination

6. Questions from the Technical Panel and Member Sumwalt

7. Roundtable discussion with panelists and other industry stakeholders moderated by Member Sumwalt

Wednesday, June 22, 2016 (9:00 a.m. to 5:00 p.m.)

1. Opening Statement by Member Sumwalt

2. Presentations on Training, Education, and Operations

3. Questions from the Technical Panel and Member Sumwalt

4. Presentations on Future Improvements and Emerging Technologies

5. Questions from the Technical Panel and Member Sumwalt

6. Roundtable discussion with panelists and other industry stakeholders moderated by Member Sumwalt

Unless otherwise noted, the forum will be held in the NTSB Board Room and Conference Center, located at 429 L'Enfant Plaza SW., Washington, DC. The public can view the forum in person or via live webcast at http://ntsb.capitolconnection.org/. Webcast archives are generally available by the end of the day after the forum, and webcasts are archived for 3 months after the date of the event.

Individuals requiring reasonable accommodation and/or wheelchair access directions should contact Rochelle McCallister at (202) 314-6305 or by email at Rochelle.McCallister@ntsb.gov by Tuesday, June 14, 2016.

Schedule updates, including weather-related cancellations, are also available at www.ntsb.gov.

NTSB Media Contact: Peter Knudson—Peter.Knudson@ntsb.gov.

NTSB Forum Manager: Brian Soper—Brian.Soper@ntsb.gov.

Candi R. Bing,
Federal Register Liaison Officer.

[FR Doc. 2016-13509 Filed 6-7-16; 8:45 am]

BILLING CODE P